DEPARTMENT OF THE INTERIOR

Bureau of Land Management

[15XL.LLIDT01000.L10200000.DR0000.LXSSD0080000.241A 4500080108]

Notice of Availability of Record of Decision for the Jarbidge Resource Management Plan Final Environmental Impact Statement

AGENCY: Bureau of Land Management, Interior.

ACTION: Notice of availability.

SUMMARY: The Bureau of Land Management (BLM) announces the availability of the Record of Decision (ROD) for the Approved Resource Management Plan (RMP) for the Jarbidge Field Office located in the Twin Falls District (Idaho and Nevada). The Idaho State Director signed the ROD on September 2, 2015, which constitutes the final decision of the BLM and makes the Approved RMP effective immediately.

ADDRESSES: Copies of the ROD/Approved RMP are available upon request from the Field Manager, Jarbidge Field Office, Bureau of Land Management, 2536 Kimberly Road, Twin Falls, Idaho 83301 and online at http://www.blm.gov/id/st/en/prog/nepa_register/jarbidge-rmp-revision.html. Copies of the ROD/Approved RMP are also available for public inspection at 2536 Kimberly Road, Twin Falls, Idaho 83301.

FOR FURTHER INFORMATION CONTACT: Elliot Traher, Jarbidge Field Manager, or Heidi Whitlach, Jarbidge RMP Project Manager, telephone 208-736-2350; address Jarbidge Field Office, 2536 Kimberly Road, Twin Falls, Idaho 83301; email blm_id_jarbidgermp@blm.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: The Approved RMP was developed with public participation through a collaborative planning process in accordance with the Federal Land Policy and Management Act of 1976, as amended, and the National Environmental Policy Act of 1969, as amended. The Approved RMP addresses the management of resources and resource uses on about 1,371,000 acres of public land surface; 1,497,000 acres of Federal mineral estate; and 1,463,000 acres of livestock grazing (including 1,371,000 acres of public land surface and an additional 92,000 acres on the US Air Force Saylor Creek Training Range) in Elmore, Owyhee, and Twin Falls Counties in Idaho and Elko County in Nevada. The Approved RMP describes the landscape-level conservation and management actions needed to meet desired resource conditions and regional mitigation objectives for vegetation, wild horses, livestock grazing, recreation, energy development, and Areas of Critical Environmental Concern (ACECs).

In the Draft RMP/Environmental Impact Statement (EIS), Alternative IV-B was selected as the BLM's Preferred Alternative. As a result of public comment, internal review, and cooperating agency coordination on the Draft RMP/EIS, Alternative IV-B was adjusted to become Alternative VI (Proposed RMP) and analyzed in the Proposed RMP/Final EIS. The Proposed RMP/Final EIS was published in theFederal Registeron August 22, 2014 (79 FR 49774).

The BLM received 8 protest letters during the 30-day protest period. The BLM Director denied all protest issues as reported in the Director's Protest Resolution Report, which can be reviewed at the following Web site:http://www.blm.gov/wo/st/en/prog/planning/planning_overview/protest_resolution/protestreports.html.

While the Approved RMP contains some conservation management measures for greater sage-grouse habitat, final decisions on how to manage habitat within the Jarbidge Field Office will be made in the Records of Decision for the Idaho/Southwest (SW) Montana Greater Sage-Grouse Plan Amendment and the Nevada/Northeast (NE) California Greater Sage-Grouse Plan Amendment. The Idaho/SW Montana and Nevada/NE California Greater Sage-grouse Plan Amendment EISs will fully analyze applicable greater sage-grouse conservation measures, consistent with BLM Instruction Memorandum No. 2012-044. The BLM expects to make a comprehensive set of decisions for managing greater sage-grouse on lands administered by the Jarbidge Field Office in the Records of Decision for the Idaho/SW Montana and Nevada/NE California Greater Sage-Grouse Plan Amendments.

During the Governor's consistency review process, the Idaho Governor's Office identified discrepancies between the Jarbidge Proposed RMP and laws, plans, policies and programs of the State of Idaho. The discrepancies mostly concerned greater sage-grouse direction and conservation actions in the Proposed RMP and Governor C.L. “Butch” Otter's “Alternative for Federal Lands for Greater Sage-grouse Management in Idaho” and the Idaho Department of Lands Greater Sage-grouse Conservation Plan for State Endowment Lands. The issues raised by the State of Idaho were responded to by letter from the BLM Idaho State Director. The Governor's Office did not appeal the State Director's decision to the BLM Director. The Nevada Governor's Office did not submit a response to the BLM during the Governor's consistency review period.

Authority: 40 CFR 1506.6.

Timothy M. Murphy,
BLM Idaho State Director.

[FR Doc. 2015-23060 Filed 9-11-15; 8:45 am]

BILLING CODE 4310-GG-P